DEPARTMENT OF ENERGY

Federal Energy Regulatory Commission

[Docket No. CP06-47-000]

Dominion Transmission, Inc.; Notice of Filing

January 12, 2006.

Take notice that on January 5, 2006, Dominion Transmission, Inc. (Dominion), 120 Tredegar Street, Richmond, Virginia 23219, filed an abbreviated application for a certificate of public convenience and necessity pursuant to section 7 of the Natural Gas Act (NGA) and Part 157 of the Commissiion's Rules and Regulations. Dominion requests authorization to convert an existing observation well (well UW-207) to an injection/withdrawal (I/W) well located in Dominion's North Summit Storage Complex in Fayette County, Pennsylvania. Dominion states that it also intends to install, under its blanket certificate authorization, a new storage pipeline (UP-25), in order to tie the well into the storage field. Dominion estimates to complete the proposed work by September 30, 2006. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding the application are to be directed to Anne E. Bomar, Managing Director Transmission Rates and Regulation, 120 Tredegar Street, Richmond, Virginia 23219; phone number (804) 819-2134.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: February 2, 2006.

Magalie R. Salas,
Secretary.

[FR Doc. E6-600 Filed 1-19-06; 8:45 am]

BILLING CODE 6717-01-P